COMMITTEE FOR THE IMPLEMENTATION OF TEXTILE AGREEMENTS

Determination Under the Textile and Apparel Commercial Availability Provision of the Dominican Republic-Central America-United States Free Trade Agreement (CAFTA-DR Agreement)

November 12, 2008.

AGENCY: The Committee for the Implementation of Textile Agreements.

ACTION: Determination to add a product in unrestricted quantities to Annex 3.25 of the CAFTA-DR Agreement.

EFFECTIVE DATE: November 18, 2008.

SUMMARY: The Committee for the Implementation of Textile Agreements (CITA) has determined that certain 100% polyester sharkskin fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482-3651.

FOR FURTHER INFORMATION ONLINE: http://web.ita.doc.gov/tacgi/CaftaReqTrack.nsf.Reference number: 91.2008.10.09.Fabric.SharrettsPaley forFishman&Tobin.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25, Note; see also section 203(o)(4)(C) of the CAFTA-DR Act.

The CAFTA-DR Act requires the President to establish procedures governing the submission of a request and providing opportunity for interested entities to submit comments and supporting evidence before a commercial availability determination is made. In Presidential Proclamations 7987 and 7996, the President delegated to CITA the authority under section 203(o)(4) of CAFTA-DR Act for modifying the Annex 3.25 list. On September 15, 2008, CITA published modified procedures it would follow in considering requests to modify the Annex 3.25 list (73 FR 53200) (“procedures”).

On October 9, 2008, the Chairman of CITA received a request for a commercial availability determination (“Request”) under the CAFTA-DR from Sharretts, Paley, Carter & Blauvelt, P.C., on behalf of Fishman & Tobin, for certain 100% polyester sharkskin fabrics. On October 10, 2008, in accordance with CITA's procedures, CITA notified interested parties of the Request and posted the Request on the dedicated website for CAFTA-DR Commercial Availability proceedings. In its notification, CITA advised that any Response with an Offer to Supply (“Response”) must be submitted by October 24, 2008, and any Rebuttal be submitted by October 30, 2008. No interested entity submitted a Response advising CITA of its objection to the Request and its ability to supply the subject product.

In accordance with section 203(o)(4)(C) of the CAFTA-DR Act, and CITA's procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated website for CAFTA-DR Commercial Availability proceedings.

Specifications: Certain Polyester Sharkskin Fabric
HTS: 5515.12.00; 5407.93.20
Fiber Content: 100% Polyester
Warp Yarn:
English: 30/2 or 30/1 to 50/2 or 50/1 spun polyester staple fibers combined with polyester filament of 100-300 denier.
Metric: 51/2 or 51/1 to 85/2 or 85/1 spun polyester staple fibers combined with polyester filament of 90 to 30 decitex.
Fill Yarn:
English: 30/2 or 30/1 to 50/2 or 50/1 spun polyester staple fibers combined with polyester filament of 100-300 denier.
Metric: 51/2 or 51/1 to 85/2 or 85/1 spun polyester staple fibers combined with polyester filament of 90 to 30 decitex.
Construction:
English: 180-210 warp ends x 85-95 filling picks per inch.
Metric: 70-82 warp ends x 33-37 filling picks per centimeter.
Weave: Various.
Weight:
English: 6.2 to 7.5 oz/sq. yd.
Metric: 210 to 255 g/sq. m.
Width:
English: 56 to 64 inches.
Metric: 142 to 163 centimeters.
Finish: Containing at least 2 different color yarns, each of which is dyed a different color, with either cationic or disperse dyes or any combinations of both.

Janet E. Heinzen,
Acting Chairman, Committee for the Implementation of Textile Agreements.

[FR Doc. E8-27340 Filed 11-17-08; 8:45 am]

BILLING CODE 3510-DS